DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration.

Title: Survey of International Air Travelers (SIAT).

OMB Control Number: 0625-0227.

Form Number(s): None.

Type of Request: Regular submission (extension and revision of a currently approved information collection).

Number of Respondents: 300,000.

Average Hours per Response: 15 minutes.

Burden Hours: 75,000.

Needs and Uses: The Survey of International Air Travelers (SIAT) program, administered by the National Travel and Tourism Office (NTTO) of the International Trade Administration provides source data required to: (1) Estimate international travel and passenger fare exports, imports and the trade balance for the United States, (2) comply with the U.S. Travel Promotion Act of 2009 (Pub. L. 111-145), collect, analyze and report information to the Corporation for Travel Promotion (CTP), and support the National Export Initiative (NEI-NEXT) to double U.S. exports, (3) comply with the 1945, 1961, 1981, and 1996 travel and tourism related acts to collect and publish comprehensive international travel and tourism statistics and other marketing information, and (4) support the continuation of the Travel & Tourism Satellite Accounts for the United States, which provide the only spending and employment figures for the industry. The SIAT program contains the core data that is analyzed and communicated by NTTO with other government agencies, associations and businesses that share the same objective of increasing U.S. international travel exports.

The SIAT assists NTTO in assessing the economic impact of international travel on state and local economies, providing visitation estimates, key market intelligence, and identifying traveler and trip characteristics. The U.S. Department of Commerce assists travel industry enterprises to increase international travel and passenger fare exports for the country as well as outbound travel on U.S. carriers. The Survey program provides the only available estimates of nonresident visitation to the states and cities within the United States, as well as U.S. resident travel abroad.

The SIAT also assists NTTO in producing in-depth statistical reports, fact sheets and briefings on economic factors and policy issues affecting U.S. industries. With the SIAT statistical data not replicable by private sector trade associations or by private firms, Federal agencies, Congress and international organizations rely on these statistic-based tools, as do American businesses, state and local governments, and news organizations.

Affected Public: Individuals or households: International travelers departing the United States 18 years or older which includes U.S. and non-U.S. residents for all countries except Canada.

Frequency: Monthly.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer.

[FR Doc. 2018-09117 Filed 4-30-18; 8:45 am]

BILLING CODE 3510-DS-P